DEPARTMENT OF HOMELAND SECURITY

Coast Guard

33 CFR Part 117

[Docket No. USCG-2013-0253]

Drawbridge Operation Regulation; Columbia River, Vancouver, WA

AGENCY: Coast Guard, DHS.

ACTION: Notice of deviation from drawbridge regulation.

SUMMARY: The Coast Guard has issued a temporary deviation from the operating schedule that governs the Interstate 5 (I-5) Bridges across the Columbia River, mile 106.5, between Portland, Oregon and Vancouver, Washington. This deviation is necessary to facilitate the movement of heavier than normal roadway traffic associated with the Independence Day fireworks show near the I-5 Bridges. This deviation allows the bridges to remain in the closed position during the event.

DATES: This deviation is effective from 9 p.m. on July 4, 2013 to 11:59 p.m. on July 4, 2013.

ADDRESSES: The docket for this deviation, [USCG-2013-0253] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Randall Overton, Bridge Administrator, Coast Guard Thirteenth District; telephone 206-220-7282, email Randall.D.Overton@uscg.mil. If you have questions on viewing the docket, call Barbara Hairston, Program Manager, Docket Operations, telephone 202-366-9826.

SUPPLEMENTARY INFORMATION: The Oregon Department of Transportation has requested that the I-5 Bridges across the Columbia River remain closed to vessel traffic to facilitate heavier than normal roadway traffic volume associated with a fireworks show on July 4, 2013 near the bridges. The I-5 Bridges cross the Columbia River at mile 106.5 and provide three designated navigation channels with vertical clearances ranging from 39 to 72 feet above Columbia River Datum 0.0 while the lift spans are in the closed position. Vessels which do not require a bridge opening may continue to transit beneath the bridges during this closure period. Under normal operation the bridges operate in accordance with 33 CFR 117.869, which states that the draws shall open on signal except that the draws need not open 6:30 a.m. to 9 a.m. and from 2:30 p.m. to 6 p.m. Monday through Friday excluding federal holidays. This deviation period is from 9 p.m. on July 4, 2013 to 11:59 p.m. on July 4, 2013. The deviation allows the lift spans of the I-5 Bridges across the Columbia River, mile 106.5, to remain in the closed position and need not open for maritime traffic from 9 p.m. on July 4, 2013 to 11:59 p.m. on July 4, 2013. The lift spans will be required to open, if needed, for vessels engaged in emergency response operations during this closure period. The bridge shall operate in accordance with 33 CFR 117.869 at all other times. Waterway usage on this stretch of the Columbia River includes vessels ranging from commercial tug and tow vessels to recreational pleasure craft. Mariners will be notified and kept informed of the bridge's operational status via the Coast Guard Notice to Mariners publication.

In accordance with 33 CFR 117.35(e), the drawbridges must return to their regular operating schedule immediately at the end of the designated time period. This deviation from the operating regulations is authorized under 33 CFR 117.35.

Dated: April 9, 2013.
Randall D. Overton,
Bridge Administrator.

[FR Doc. 2013-09282 Filed 4-18-13; 8:45 am]

BILLING CODE 9110-04-P